DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Export Trade Certificate of Review.

OMB Control Number: 0625-0125.

Form Number(s): ITA-4093P.

Type of Request: Regular Submission.

Number of Respondents: 9.

Average Hours per Response: 32 hours (application); 2 hours (annual report).

Burden Hours: 440 hours.

Needs and Uses: The collection of information is necessary for both the Departments of Commerce and Justice to conduct an analysis, in order to determine whether the applicant and its members are eligible to receive the protection of an Export Trade Certificate of Review and whether the applicant's proposed export-related conduct meets the standards in Section 303(a) of the Act. The collection of information constitutes the essential basis of the statutory determinations to be made by the Secretary of Commerce and the Attorney General.

Affected Public: Business or other for profit organizations; not-for-profit institutions, and state, local or tribal government.

Frequency: Application for an Export Trade Certificate of Review is voluntary and submission of an application form is required once each time an entity of the affected public applies for an new or amended Export Trade Certificate of Review. Completion of an annual report is required one time per year from existing Certificate holders.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 20, 2015.
Glenna Mickelson,
Management Analyst, Office of the Chief Information Officer.

[FR Doc. 2015-03933 Filed 2-25-15; 8:45 am]

BILLING CODE 3510-DR-P